DEPARTMENT OF HEALTH AND HUMAN SERVICES

Centers for Medicare & Medicaid Services

[CMS-4093-N]

Medicare Program; Request for Nominations for the Advisory Panel on Medicare Education

AGENCY: Centers for Medicare & Medicaid Services (CMS), HHS.

ACTION: Notice.

SUMMARY: This notice requests nominations for individuals to serve on the Advisory Panel on Medicare Education (the Panel). The Panel advises and makes recommendations to the Secretary of the Department of Health and Human Services (HHS) (the Secretary) and the Administrator of the Centers for Medicare & Medicaid Services (CMS) (the Administrator) on opportunities for CMS to optimize the effectiveness of the National Medicare Education Program and other CMS programs that help Medicare beneficiaries understand the Medicare program and the range of health plan options available. Nominees must be knowledgeable in the field of labor and retirement benefits.

DATES: Nominations will be considered if received at the appropriate address, provided in the ADDRESSES section of this notice, no later than 5 p.m., e.d.t., on August 12, 2005.

ADDRESSES: Mail or deliver nominations to the following address: Lynne G. Johnson, Center for Beneficiary Choices, Centers for Medicare & Medicaid Services, 7500 Security Boulevard, Mail Stop S2-23-05, Baltimore MD 21244-1850.

FOR FURTHER INFORMATION CONTACT: Lynne G. Johnson, Health Insurance Specialist, Division of Partnership Development, Center for Beneficiary Choices, Centers for Medicare & Medicaid Services, 7500 Security Boulevard, Mail stop S2-23-05, Baltimore, MD 21244-1850, (410) 786-0090. Please refer to the CMS Advisory Committees Information Line (1 877-449-5659 toll free)/(410-786-9379 local) or the Internet (http://www.cms.hhs.gov/faca/apme/default.asp) for additional information and updates on committee activities, or contact Ms. Johnson via e-mail at ljohnson3@cms.hhs.gov. Press inquiries are handled through the CMS Press Office at (202) 690-6145.

SUPPLEMENTARY INFORMATION: Section 222 of the Public Health Service Act, as amended, grants to the Secretary of the Department of Health and Human Services (HHS) (the Secretary) the authority to establish an advisory panel if the Secretary finds the panel necessary and in the public interest. The Secretary signed the charter establishing the Advisory Panel on Medicare Education (the Panel) on January 21, 1999, and renewed the charter on January 14, 2005. The Panel advises HHS and the Centers for Medicare & Medicaid Services (CMS) on opportunities to enhance the effectiveness of consumer education materials serving the Medicare program.

The goals of the Panel are to provide advice on the following:

• Developing and implementing a national Medicare education program that describes the options for selecting health plans and prescription drug benefits under Medicare.

• Enhancing the Federal government's effectiveness in informing the Medicare consumer, including the appropriate use of public-private partnerships.

• Expanding outreach to vulnerable and underserved communities, including racial and ethnic minorities, in the context of a national Medicare education program.

• Assembling an information base of best practices for helping consumers evaluate health plan options and building a community infrastructure for information, counseling, and assistance.

The Panel shall consist of a maximum of 20 members. The charter requires that meetings be held approximately four times per year. Members are expected to attend all meetings.

This notice is an invitation to interested organizations or individuals to submit their nominations for membership on the Panel. The Secretary, or his designee, will appoint the new members to the Panel from among those candidates determined to have the expertise required to meet specific agency needs, and in a manner to ensure an appropriate balance of membership.

Each nomination must state that the nominee has expressed a willingness to serve as a Panel member and must be accompanied by a resume and a brief summary of the nominee's experience. In order to permit an evaluation of possible sources of conflict of interest, potential candidates will be asked to provide detailed information concerning such matters as financial holdings, consultancies, and research grants or contracts. Self-nominations will also be accepted.

Authority: (Section 222 of the Public Health Service Act (42 U.S.C. 217(a)) and section 10(a) of Pub. L. 92-463 (5 U.S.C. App. 2, section 10(a) and 41 CFR 102-3).

(Catalog of Federal Domestic Assistance Program No. 93.773, Medicare—Hospital Insurance Program; and Program No. 93.774, Medicare—Supplementary Medical Insurance Program).

Dated: July 6, 2005.
Mark B. McClellan,
Administrator, Centers for Medicare & Medicaid Services.

[FR Doc. 05-14153 Filed 7-21-05; 8:45 am]

BILLING CODE 4120-01-P